DEPARTMENT OF JUSTICE

Antitrust Division

Notice Pursuant to the National Cooperative Research and Production Act of 1993-Open DeviceNet Vendor Association, Inc.

Correction

In notice document 07-3413 beginning on page 38618 in the issue of Friday, July 13, 2007 make the following corrections:

1. On page 38618, in the third column, in the subject line “Devicenet” is corrected to read as set forth above.

2. On the same page, in the same column, in this document's first full paragraph, in the fifth line, “Device Net” should read “DeviceNet”.

[FR Doc. C7-3413 Filed 3-6-08; 8:45 am]

BILLING CODE 1505-01-D

DEPARTMENT OF JUSTICE

Antitrust Division

Notice Pursuant to the National Cooperative Research and Production Act of 1993-Semiconductor Test Consortium, Inc.

Correction

In notice document 07-6120 appearing on page 72389 in the issue of Thursday, December 20, 2007, make the following correction:

In the first column, in this documents's first paragraph, in the third line, “national Cooperative” should read “National Cooperative”.

[FR Doc. C7-6120 Filed 3-6-08; 8:45 am]

BILLING CODE 1505-01-D

DEPARTMENT OF JUSTICE

Antitrust Division

Notice Pursuant to the National Cooperative Research and Production Act of 1993—PXI Systems Alliance, Inc.

Correction

In notice document 07-6124 beginning on page 72388 in the issue of Thursday, December 20, 2007, make the following corrections:

1. On page 72389, in the first column, in the 11th line from the top, “changes its name to” should read “changed its name to”.

2. On the same page, in the same column, in the second full paragraph, in the seventh line, “march 8, 2001” should read “March 8, 2001”.

[FR Doc. C7-6124 Filed 3-6-08; 8:45 am]

BILLING CODE 1505-01-D

DEPARTMENT OF JUSTICE

Antitrust Division

Notice Pursuant to the National Cooperative Research and Production Act of 1933 -- Open Devicenet Vendor Association, Inc.

Correction

In notice document 07-6227, appearing on page 74331 in the issue of Monday, December 31, 2007, make the following correction:

In the second column, in the first full paragraph, twelve lines from the bottom should read “Eilersen Electric A/S, Kokkedal”.

[FR Doc. C7-6227 Filed 3-6-08; 8:45 am]

BILLING CODE 1505-01-D